DEPARTMENT OF COMMERCE

International Trade Administration

[A-201-834]

Purified Carboxymethylcellulose from Mexico: Extension of Time Limits for Preliminary Results of Antidumping Duty Administrative Review

AGENCY: Import Administration, International Trade Administration, Department of Commerce.

EFFECTIVE DATE: March 25, 2010.

FOR FURTHER INFORMATION CONTACT: Mark Flessner or Robert James, AD/CVD Enforcement Office 7, Import Administration, International Trade Administration, U.S. Department of Commerce, 14th Street and Constitution Avenue, NW, Washington DC 20230; telephone: (202) 482-6312 and (202) 482-0649, respectively.

SUPPLEMENTARY INFORMATION:

Background

On July 11, 2005, the Department of Commerce (the Department) issued the antidumping order for purified carboxymethylcellulose (CMC). See Notice of Antidumping Duty Orders: Purified Carboxymethylcellulose from Finland, Mexico, the Netherlands and Sweden, 70 FR 39734 (July 11, 2005).

On August 25, 2009, the Department published a notice of initiation of an antidumping duty administrative review for, inter alia, CMC from Mexico for the July 1, 2008, through June 30, 2009, period of review (POR). See Initiation of Antidumping and Countervailing Duty Administrative Reviews and Request for Revocation in Part, 74 FR 42873 (August 25, 2009). The preliminary results for this administrative review were due no later than April 2, 2010.

As explained in the memorandum from the Deputy Assistant Secretary for Import Administration, the Department has exercised its discretion to toll deadlines as a result of the closure of the Federal Government due to snowstorms occurring in February of 2010. Thus, all deadlines in this segment of the proceeding have been extended by seven days. See Memorandum to the Record from Ronald Lorentzen, DAS for Import Administration, regarding “Tolling of Administrative Deadlines As a Result of the Government Closure During the Recent Snowstorm,” dated February 12, 2010 (Tolling Memorandum). The revised deadline for the preliminary determination of this administrative review is now April 9, 2010.

Extension of Time Limits for Preliminary Results

Section 751(a)(3)(A) of the Tariff Act of 1930, as amended (the Tariff Act), requires the Department to complete the preliminary results of an administrative review within 245 days after the last day of the anniversary month of an order for which a review is requested. However, if it is not practicable to complete the review within this time period, section 751(a)(3)(A) of the Tariff Act allows the Department to extend the 245 day time period for the preliminary results to 365 days.

The Department has determined it is not practicable to complete this review within the statutory time limit because of significant issues that require additional time to evaluate. These include complicated issues involving Amtex's (the respondent) use of multiple currencies in both markets and certain movement expenses. In accordance with the Tolling Memorandum, an additional seven days must be factored into the deadline. Accordingly, the Department is extending the time limit for completion of the preliminary results of this administrative review until no later than Tuesday, June 8, 2010, which is 60 days from the April 9, 2010, deadline and less than 365 days after the last day of the anniversary month of the order for which this review was requested. The final results continue to be due 120 days after publication of the preliminary results.

This notice is issued and published in accordance with sections 751(a)(3)(A) and 777(i)(1) of the Tariff Act.

Dated: March 18, 2010.
John M. Andersen,
Acting Deputy Assistant Secretary for Antidumping and Countervailing Duty Operations.

[FR Doc. 2010-6639 Filed 3-24-10; 8:45 am]

BILLING CODE 3510-DS-S